DEPARTMENT OF AGRICULTURE

Forest Service

East Fork Fire Salvage Project; Wasatch-Cache National Forest, Summit County, Utah

AGENCY: Forest Service, USDA.

ACTION: Notice of intent to prepare environmental impact statement.

SUMMARY: The Forest Supervisor of the Wasatch-Cache National Forest gives notice of the agency's intent to prepare an environmental impact statement on a proposal to harvest timber in the Bear River and Blacks Fork drainages. The headwaters of these drainages are located on the Evanston Ranger District about 40 miles south of Evanston, Wyoming in the Uinta Mountain Range. The proposed action was developed to salvage timber burned in the East Fork fire in June and July of 2002. The fire perimeter includes approximately 14,200 acres out of the 71,200 acres within the analysis area. The proposal addresses lands located primarily in the East Fork of the Bear River, Mill Creek, and West Fork of the Blacks Fork drainages located in Township 2 North, Ranges 10 East and 11 East, Salt Lake Meridian.

Temporary roads would be constructed to provide access for timber harvest in portions of the area. The proposal also includes reconstruction or relocation of some poorly designed or located existing roads.

DATES: Comments concerning the scope of the analysis must be received in writing by April 18th, 2003. A draft environmental impact statement is expected to be published in June 2003, with public comment on the draft material requested for a period of 45 days, and completion of final environmental impact statement is expected in September, 2003.

ADDRESSES: Send written comments to Stephen Ryberg, District Ranger, Evanston Ranger District, PO Box 1880, Evanston, WY 82930. Electronic mail may be sent to lljohnson01@fs.fed.us.

FOR FURTHER INFORMATION CONTACT: Larry Johnson, Environmental Planner, (307) 789-3194, or Kent O'Dell, Timber Management Coordinator, (307) 782-6555, USDA Forest Service, Evanston Ranger District (See address above.)

SUPPLEMENTARY INFORMATION:

Purpose and Need for Action

1. To salvage timber killed by the fire before the commercial value is lost. There is an urgent need for harvest, because fire-killed trees typically do not maintain their merchantability for lumber for more than 1 to 3 years, depending upon species and size. Sapwood staining, checking, woodborer damage, and decay will affect volume and quality after that time. Smaller diameter trees typically will not be merchantable for lumber within a year while larger diameter trees can retain their merchantability longer but will lose their value as wood products in time.

2. Contributing opportunities for industry and communities in Utah and Wyoming that are dependent on national forest timber for a portion of their supply and economy.

Proposed Action

The proposal to salvage includes timber harvesting, construction of temporary roads, and minor reconstruction of existing system roads. Treatment will be limited to the salvage harvest of trees killed by the fire or expected to die within the next year due to fire damage. Primarily spruce, lodgepole pine, and subalpine fir trees will be salvaged. The proposal includes removing merchantable trees, while retaining green trees, unmerchantable trees, and large diameter snags for wildlife habitat. Approximately 1,148 acres within 24 units would be treated under the proposal. An estimated 6.5 miles of temporary roads would be needed to harvest timber under the proposal.

Proposed new road construction would be limited to that needed for access for harvest activities. These roads would be temporary, and decomissioned (restored) following harvest activities. There is no proposed road construction or timber harvest in inventioned roadless areas.

Some existing roads that will be used as haul routes would be reconstructed to improve the drainage design of the roads near stream crossings or relocated where the roads are near stream channels.

Responsible Official

The Responsible Official is Thomas L. Tidwell, Forest Supervisor, Wasatch-Cache National Forest, 8236 Federal Building, 125 South State Street, Salt Lake City, UT 84138.

Nature of Decision To Be Made

The decision to be made is whether to implement the proposed activities listed above.

A determination of effects on Canada lynx will be required from the U.S. Fish and Wildlife Service.

Scoping Process

The Forest Service invites comments and suggestions on the scope of the analysis to be included in the Draft Environmental Impact Statement (DEIS). In addition, the Forest Service gives notice that it is beginning a full environmental analysis and decision-making process for this proposal so that interested or affected people may know how they can participate in the environmental analysis and contribute to the final decision. A public “scoping” open house is scheduled for March 18, 2003, in Evanston, Wyoming, at the Historic Railroad Depot on Front Street in Evanston, Wyoming, from 4 to 7 p.m. The purpose of this open house is to learn what issues members of the public or interested agencies believe are involved in the proposal. Knowledge of the issues will help establish the scope of the Forest Service environmental analysis and define the kind and range of alternatives to be considered. Forest Service officials will describe and explain the proposed actions and the process of environmental analysis and disclosure to be followed in evaluating this proposal. The Forest Service welcomes any public comments on the proposal.

Early Notice of Importance of Public Participation in Subsequent Environmental Review

A draft environmental impact statement will be prepared for comment. The comment period on the draft environmental impact statement will be 45 days from the date the Environmental Protection Agency's notice of availability appears in the Federal Register. It is very important that those interested in this proposed action participate at that time. To be the most helpful, comments on the draft environmental impact statement should be as specific as possible and may address the adequacy of the statement or merits of the alternatives discussed.

The Forest Service believes it is important to give reviewers notice at this early stage of several court rulings related to public participation in the environmental review process. First, reviewers of draft environmental impact statements must structure their participation in the environmental review of the proposal so that it is meaningful and alerts an agency to the reviewer's position and contentions. Vermont Yankee Nuclear Power Corp. v. NRDC, 443 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. (Reviewers may wish to refer to the Council on Environmental Quality Regulations for implementing the procedural provisions of the National Environmental Policy Act at CFR 1503.3 in addressing these points.) Comments received, including the names and addresses of those who comment, will be considered part of the public record on this proposal and will be available for public inspection.

(Authority: 40 CFR 1501.7 and 1508.22; Forest Service Handbook 1909.15, Section 21)

Dated: March 17, 2003.
Thomas L. Tidwell,
Forest Supervisor.

[FR Doc. 03-6899 Filed 3-21-03; 8:45 am]

BILLING CODE 3410-11-M